DEPARTMENT OF DEFENSE

Defense Acquisition Regulations System

[Docket Number DARS-2020-0042; OMB Control Number 0704-0341]

Information Collection Requirement; Defense Federal Acquisition Regulation Supplement; Part 239, Acquisition of Information Technology

AGENCY: Defense Acquisition Regulations System, Department of Defense (DoD).

ACTION: Notice and request for comments regarding a proposed revision and extension of an approved information collection requirement.

SUMMARY: In compliance with the Paperwork Reduction Act of 1995, DoD announces the proposed revision and extension of a public information collection requirement and seeks public comment on the provisions thereof. DoD invites comments on: whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through January 31, 2021. DoD proposes that OMB extend its approval for use for three additional years beyond the current expiration date.

DATES: DoD will consider all comments received by January 4, 2021.

ADDRESSES: You may submit comments, identified by OMB Control Number 0704-0341, using any of the following methods:

Federal eRulemaking Portal: http://www.regulations.gov. Follow the instructions for submitting comments.

Email: osd.dfars@mail.mil. Include OMB Control Number 0704-0341 in the subject line of the message.

Mail: Defense Acquisition Regulations System, Attn: Ms. Heather Kitchens, OUSD(AT&L)DPAP(DARS), 3060 Defense Pentagon, Room 3B938, Washington, DC 20301-3060.

Comments received generally will be posted without change to http://www.regulations.gov, including any personal information provided.

FOR FURTHER INFORMATION CONTACT: Ms. Heather Kitchens, 571-372-6104.

SUPPLEMENTARY INFORMATION: Title and OMB Number: Defense Federal Acquisition Regulation Supplement (DFARS) Part 239, Acquisition of Information Technology, and the associated clause at DFARS 252.239-7000; OMB Control Number 0704-0341.

Affected Public: Businesses or other for-profit and not-for-profit institutions.

Respondent's Obligation: Required to obtain or retain benefits.

Type of Request: Revision and extension of a currently approved collection.

Reporting Frequency: On occasion.

Number of Respondents: 820.

Responses per Respondent: Approximately 7.

Annual Responses: 5,932.

Average Burden per Response: Approximately 0.5 hour.

Annual Burden Hours: 3,025.

Needs and Uses: This requirement provides for the collection of information from contractors regarding security of information technology and proposals from common carriers to perform special construction under contracts for telecommunications services. Contracting officers and other DoD personnel use the information to ensure that information technology is protected and to establish reasonable prices for special construction by common carriers.

The clause at DFARS 252.239-7000, Protection Against Compromising Emanations, requires that the contractor provide, upon request of the contracting officer, documentation that information technology used or provided under the contract meets appropriate information assurance requirements. DFARS 239.7408 requires the contracting officer to obtain a detailed special construction proposal from a common carrier that submits a proposal or quotation that has special construction requirements related to the performance of basic telecommunications services.

Jennifer D. Johnson,
Regulatory Control Officer, Defense Acquisition Regulations System.

[FR Doc. 2020-24561 Filed 11-4-20; 8:45 am]

BILLING CODE 5001-06-P